DEPARTMENT OF THE TREASURY

Internal Revenue Service

Proposed Collection; Comment Request for Regulation Project

AGENCY: Internal Revenue Service (IRS), Treasury.

ACTION: Notice and request for comments.

SUMMARY: The Internal Revenue Service, as part of its continuing effort to reduce paperwork and respondent burden, invites the general public and other Federal agencies to take this opportunity to comment on continuing information collections, as required by the Paperwork Reduction Act of 1995. The IRS is soliciting comments concerning information collection requirements related to the election of alternative minimum funding standards for community newspaper plans, and special rules for single employer defined benefit pension plans.

DATES: Written comments should be received on or before March 25, 2025 to be assured of consideration

ADDRESSES: Direct all written comments to Andres Garcia, Internal Revenue Service, Room 6526, 1111 Constitution Avenue NW, Washington, DC 20224, or by email to pra.comments@irs.gov. Include OMB control number 1545-2095 or TD 9467 and Notice 2020-60, in the subject line of the message.

FOR FURTHER INFORMATION CONTACT: Requests for additional information or copies of the regulations should be directed to Kerry Dennis at (202) 317-5751, or at Internal Revenue Service, Room 6526, 1111 Constitution Avenue NW, Washington, DC 20224, or through the internet, at Kerry.L.Dennis@irs.gov.

SUPPLEMENTARY INFORMATION:

Title: Special Rules for Single-Employer Defined Benefit Pension Plans (TD 9467) and Election of Alternative Minimum Funding Standards for Community Newspaper Plans (Notice 2020-60).

OMB Number: 1545-2095.

Regulation and Notice Number: REG-139236-07 (TD 9467) and Notice 2020-60.

Abstract: REG-139236-07 (TD 9467): The information required under section 1.430(f)-1(f) is required in order for plan sponsors to make elections regarding a plan's credit balances upon occasion. The information required under section 1.430(h)(2)-1(e) is required in order for a plan sponsor to make an election to use an alternative interest rate for purposes of determining a plan's funding obligations under section 1.430(h)(2)-1. The information required under sections 1.436-1(f) and 1.436-1(h) is required in order for a qualified defined benefit plan's enrolled actuary to provide a timely certification of the plan's adjusted funding target attainment percentage (AFTAP) for each plan year to avoid certain benefit restrictions.

Notice 2020-60 (Election of Alternative Minimum Funding Standards for Community Newspaper Plans): Section 115(a) of the Setting Every Community Up for Retirement Enhancement Act of 2019 (SECURE Act), Division O of the Further Consolidated Appropriations Act, 2020, Pub. L. 116-94, under section 430(m) to the Code permit the plan sponsor of a community newspaper plan under which no participant has had an increase in accrued benefit after December 31, 2017 to elect to have alternative minimum funding standards apply to the plan in lieu of the minimum funding requirements that would otherwise apply under section 430. Pursuant to section 430(m)(2), any election under section 430(m) will be made at such time and in such manner as prescribed by the Secretary, and once an election is made with respect to a plan year, it will apply to all subsequent plan years unless revoked with the consent of the Secretary. Notice 2020-60 provides guidance regarding this election.

Current Actions: There are changes to the collection and paperwork burden previously approved by OMB. The election under Internal Revenue Code section 3608(b) of the CARES Act (Notice 2020-61) is no longer relevant. It is an election to treat a DB plan's adjusted funding target attainment percentage (AFTAP) for the last plan year ending before January 1, 2020 as the AFTAP for plan years that include calendar year 2020. The election under Notice 2021-48 was for extended amortization bases to apply the extended amortization period for shortfall amortization bases for plan years beginning after December 31, 2018, December 31, 2019, or December 31, 2020. This extended period now applies for all DB plans. The election was available on a temporary basis and is no longer available. The agency has changed the estimated number of respondents from 20 to 2 as it is expected that any community newspaper plan sponsor that wanted to make this election have made it already, and the plan sponsors that are eligible for this election would be very small. REG-139236-07 (TD 9467), remains the same with the same estimates as previously approved by OMB.

Type of Review: Revision of a currently approved collection.

Affected Public: Individuals or households, and businesses or other for-profit organizations, not-for-profit, institutions, farms, and Federal, State, local or Tribal governments.

TD 9467

Estimated Number of Respondents: 80,000.

Estimated Time per Respondent: 1.5 hrs.

Estimated Total Annual Burden Hours: 120,000.

Notice 2020-60

Estimated Number of Respondents: 2.

Estimated Time per Respondent: 4 hr.

Estimated Total Annual Burden Hours: 80.

The following paragraph applies to all the collections of information covered by this notice.

An agency may not conduct or sponsor, and a person is not required to respond to, a collection of information unless the collection of information displays a valid OMB control number. Books or records relating to a collection of information must be retained if their contents may become material in the administration of any internal revenue law. Generally, tax returns and tax return information are confidential, as required by 26 U.S.C. 6103.

Request for Comments: Comments submitted in response to this notice will be summarized and/or included in the request for OMB approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: January 17, 2025.
Kerry L. Dennis,
Tax Analyst.

[FR Doc. 2025-01659 Filed 1-23-25; 8:45 am]

BILLING CODE 4830-01-P